DEPARTMENT OF TRANSPORTATION

Federal Railroad Administration

Notice of Application for Approval of Discontinuance or Modification of a Railroad Signal System or Relief from the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR part 236, as detailed below.

[Docket Number FRA-2008-0144]

Applicant: New York, Susquehanna and Western Railway Corporation, Mr. Nathan R. Fenno, President, 1 Railroad Avenue, Cooperstown, New York 13326.

The New York, Susquehanna and Western Railway Corporation (NYSW) seeks approval of the proposed discontinuance of the Manual Block Territory and establishment of Yard Limit Territory for the SBNY Main track, milepost (MP) 270.20 (W.E. Armory Square Station) to MP 274.45 (End of Track at Carousel Mall); the SBNY Connector track, MP 272.90 (Salt Land Spur Switch) to MP 273.24 (NYSW/CSXT Property Line); and SBNY Runaround, MP 271.20 (#15 Turnout) to MP 273.24 (NYSW/CSXT Property Line), near Syracuse, New York.

The reason given for the proposed changes is that the passenger train service in the area has been terminated, and the freight operations for both the NYSW and CSXT will be improved under the authority of the NYSW dispatcher located in Cooperstown, New York.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0144) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on December 23, 2008.
Grady C. Cothen, Jr.,
Deputy Associate Administrator for Safety Standards and Program Development.

[FR Doc. E8-31181 Filed 12-30-08; 8:45 am]

BILLING CODE 4910-06-P